DEPARTMENT OF ENERGY

Federal Energy Regulatory Commission

Combined Notice of Filings # 1

November 26, 2008.

Take notice that the Commission received the following exempt wholesale generator filings:

Docket Numbers: EG09-18-000.

Applicants: Milford Power Company, LLC

Description: Notice of Self-Certification of Exempt Wholesale Generator Status of Milford Power Company, LLC.

Filed Date: 11/24/2008.

Accession Number: 20081124-5028.

Comment Date: 5 p.m. Eastern Time on Monday, December 15, 2008.

Take notice that the Commission received the following electric rate filings:

Docket Numbers: ER00-2738-008; ER99-1004-009; ER01-1721-006; ER00-2740-008; ER02-564-006; ER06-653-003.

Applicants: Entergy Nuclear Fitzpatrick, LLC, Entergy Nuclear Generation Company, Entergy Nuclear Indian Point 2, LLC, Entergy Nuclear Indian Point 3, LLC, Entergy Nuclear Vermont Yankee, LLC, Entergy Nuclear Power Marketing, LLC.

Description: Entergy Nuclear Affiliates submits revisions and clarification to the 6/30/08 filing as requested by FERC Staff.

Filed Date: 11/21/2008.

Accession Number: 20081124-0330.

Comment Date: 5 p.m. Eastern Time on Monday, December 1, 2008.

Docket Numbers: ER05-699-007.

Applicants: Xcel Energy Services Inc.

Description: Xcel Energy Services Inc. submits Service Agreement 393 between Northern States Power Co et al. and City of Sleepy Eye etc.

Filed Date: 11/24/2008.

Accession Number: 20081125-0202.

Comment Date: 5 p.m. Eastern Time on Monday, December 15, 2008.

Docket Numbers: ER06-615-034.

Applicants: California Independent System Operator Corporation

Description: California Independent System Operator Corp submits a revised pro forma sheet of the pro forma Reliability Must-Run Contract.

Filed Date: 11/21/2008.

Accession Number: 20081125-0106.

Comment Date: 5 p.m. Eastern Time on Friday, December 12, 2008.

Docket Numbers: ER08-1006-002.

Applicants: Entergy Services, Inc.

Description: Entergy Mississippi, Inc submits an updated Appendix H to the Amended and Restated Interconnection and Operating Agreement with Southaven Power, LLC.

Filed Date: 11/24/2008.

Accession Number: 20081126-0122.

Comment Date: 5 p.m. Eastern Time on Monday, December 15, 2008.

Docket Numbers: ER08-1410-001.

Applicants: PacifiCorp.

Description: PacifiCorp submits its Refund Report.

Filed Date: 11/24/2008

Accession Number: 20081124-5076.

Comment Date: 5 p.m. Eastern Time on Monday, December 15, 2008

Docket Numbers: ER08-1435-002.

Applicants: Midwest Independent Transmission System Operator, Inc.

Description: Midwest Independent Transmission System Operator, Inc. submits proposed revisions to its Open Access Transmission and Energy Markets Tariff in compliance with the Commission's 10/24/08 Order.

Filed Date: 11/24/2008.

Accession Number: 20081126-0121.

Comment Date: 5 p.m. Eastern Time on Monday, December 15, 2008.

Docket Numbers: ER09-117-001.

Applicants: Midwest Independent Transmission System Operator, Inc.

Description: Midwest Independent Transmission System Operator, Inc submits a Large Generator Interconnection Agreement with Stony Brook Wind, LLC et al.

Filed Date: 11/24/2008.

Accession Number: 20081126-0120.

Comment Date: 5 p.m. Eastern Time on Monday, December 15, 2008.

Docket Numbers: ER09-318-000.

Applicants: Safe Harbor Holding Company, LLC.

Description: Request of Safe Harbor Holding Co, LLC for authorization to sell energy and capacity at market-based rates etc.

Filed Date: 11/24/2008.

Accession Number: 20081126-0136.

Comment Date: 5 p.m. Eastern Time on Monday, December 15, 2008.

Docket Numbers: ER09-322-000; ER09-323-000; ER09-324-000; ER09-325-000.

Applicants: Idaho Power Company.

Description: Idaho Power Company submits Revised Network Integration Transmission Service Agreement, Nos. 153, 154, 155, and 156.

Filed Date: 11/21/2008.

Accession Number: 20081125-0105.

Comment Date: 5 p.m. Eastern Time on Friday, December 12, 2008.

Docket Numbers: ER09-326-000.

Applicants: Duke Energy Carolinas, LLC.

Description: Duke Energy Carolinas, LLC submits a non-conforming long-term Transmission Service Agreement between DE Carolinas et al.

Filed Date: 11/21/2008.

Accession Number: 20081125-0104.

Comment Date: 5 p.m. Eastern Time on Friday, December 12, 2008.

Docket Numbers: ER09-327-000.

Applicants: Entergy Gulf States Louisiana, L.L.C., Entergy Texas, Inc.

Description: Entergy Services, Inc on behalf of Entergy Gulf States Louisiana, LLC et. al submits Order No. 164-conformed versions of the Rate Schedules filed on 4/22/08.

Filed Date: 11/21/2008.

Accession Number: 20081125-0107.

Comment Date: 5 p.m. Eastern Time on Friday, December 12, 2008.

Docket Numbers: ER09-329-000.

Applicants: PSEG Power Connecticut LLC.

Description: PSEG Power Connecticut, LLC's request for limited waiver of Forward Capacity Market Rules and request for FERC Ruling within sixty days.

Filed Date: 11/24/2008.

Accession Number: 20081126-0134.

Comment Date: 5 p.m. Eastern Time on Monday, December 15, 2008.

Docket Numbers: ER09-330-000.

Applicants: Xcel Energy Services Inc.

Description: Xcel Energy Services, Inc., on behalf of Southwestern Public Service Company, submits a Connection Agreement with Golden Spread Electric Cooperative, Inc. et. al.

Filed Date: 11/24/2008.

Accession Number: 20081126-0133.

Comment Date: 5 p.m. Eastern Time on Monday, December 15, 2008.

Docket Numbers: ER09-331-000.

Applicants: Xcel Energy Services Inc.

Description: Xcel Energy Services, Inc., on behalf of Southwestern Public Service Co submits the proposed cancellation of 72 Point-to-Point Service Agreements.

Filed Date: 11/24/2008.

Accession Number: 20081126-0131.

Comment Date: 5 p.m. Eastern Time on Monday, December 15, 2008.

Docket Numbers: ER09-332-000.

Applicants: California Independent System Operator Corporation.

Description: California Independent System Operator Corporation submits an executed Amended and Restated Metered Subsystem Agreement between the CAISO and the City of Anaheim, California.

Filed Date: 11/24/2008.

Accession Number: 20081126-0127.

Comment Date: 5 p.m. Eastern Time on Monday, December 15, 2008.

Docket Numbers: ER09-333-000.

Applicants: MidAmerican Energy Company.

Description: MidAmerican Energy Co. submits Notice of Cancellation of the Operating Agreement with the Board of Trustees of Municipal Electric Utility of Algona, IA.

Filed Date: 11/24/2008.

Accession Number: 20081126-0132.

Comment Date: 5 p.m. Eastern Time on Monday, December 15, 2008.

Docket Numbers: ER09-334-000.

Applicants: Northern States Power Company.

Description: Northern States Power Companies submits notices of cancellation for two Non-Firm Transmission Service Agreements with Wisconsin Public Power, Inc.

Filed Date: 11/24/2008.

Accession Number: 20081126-0130.

Comment Date: 5 p.m. Eastern Time on Monday, December 15, 2008.

Docket Numbers: ER09-335-000.

Applicants: J.P. Morgan Ventures Energy Corporation.

Description: JP Morgan Ventures Energy Corp submits a Notice of Succession to inform FERC that it adopts Bear Energy's market based rate schedule, Rate Schedule 1.

Filed Date: 11/24/2008.

Accession Number: 20081126-0129.

Comment Date: 5 p.m. Eastern Time on Monday, December 15, 2008.

Take notice that the Commission received the following electric securities filings:

Docket Numbers: ES09-10-001.

Applicants: Baltimore Gas and Electric Company.

Description: Baltimore Gas and Electric Company submits a revised worksheet for computation of interest coverage.

Filed Date: 11/25/2008.

Accession Number: 20081125-5167.

Comment Date: 5 p.m. Eastern Time on Friday, December 5, 2008.

Take notice that the Commission received the following open access transmission tariff filings:

Docket Numbers: OA07-40-004.

Applicants: Portland General Electric Company.

Description: Amendment to Application of Portland General Electric Company to add section 2.2 rollover rights language to PGE's Order 890 OATT compliance filing.

Filed Date: 11/17/2008.

Accession Number: 20081117-5187.

Comment Date: 5 p.m. Eastern Time on Monday, December 8, 2008.

Docket Numbers: OA08-96-002.

Applicants: Southern Company Services, Inc.

Description: Southern Company Services, Inc. submits the Order No. 890 OATT Compliance Regarding Late Study Penalty Distribution Methodology.

Filed Date: 11/24/2008

Accession Number: 20081124-5170.

Comment Date: 5 p.m. Eastern Time on Monday, December 15, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-29340 Filed 12-10-08; 8:45 am]

BILLING CODE 6717-01-P